DEPARTMENT OF TRANSPORTATION

Federal Aviation Administration

Air Traffic Procedures Advisory Committee

AGENCY: Federal Aviation Administration (FAA), DOT.

SUMMARY: The FAA published a meeting notice on September 10, 2009 (74 FR 46655) advising the public that a meeting of the Federal Aviation Air Traffic Procedures Advisory Committee would be held on October 6, 2009. This notice adds an additional meeting date of Wednesday, October 7, 2009 from 8 a.m. to 5 p.m.

DATES: The meeting will be held Tuesday, October 6th, 2009, from 8 a.m. to 5 p.m., and Wednesday, October 7th, 2009, from 8 a.m. to 5 p.m.

FOR FURTHER INFORMATION CONTACT: Mr. Richard Jehlen, Executive Director, ATP AC, System Operations and Safety, 800 Independence Avenue, SW., Washington, DC 20591, telephone (202) 493-4527.

Issued in Washington, DC, on September 17, 2009.
Richard Jehlen,
Executive Director, Air Traffic Procedures Advisory Committee.

[FR Doc. E9-22957 Filed 9-22-09; 8:45 am]

BILLING CODE 4910-13-P